DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Tuesday, September 13, 2016, from 9:00 a.m. to 4:40 p.m. and Wednesday, September 14, 2016, from 8:30 a.m. to 4:15 p.m.

ADDRESSES: 901 N. Stuart Street Suite 200, Arlington, VA 22203.

FOR FURTHER INFORMATION CONTACT: Dr. Herb Nelson, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the September 13-14, 2016 meeting is to review new start research and development projects requesting Strategic Environmental Research and Development Program funds as required by the SERDP Statute, U.S. Code—Title 10, Subtitle A, Part IV, Chapter 172, § 2904. The full agenda follows:

Agenda for September 13, 2016.
9:10 a.m. | Program Update | Dr. Herb Nelson, Acting Executive Director.
9:25 a.m. | Munitions Response Overview | Dr. Herb Nelson, Munitions Response, Program Manager.
9:30 a.m. | 17 MR01-008 (MR-2728): Enhanced EMI Models and Systems for Underwater UXO Detection and Discrimination (FY17 New Start) | Dr. Fridon Shubitidze, Dartmouth College, Hanover, NH.
10:15 a.m. | Munitions Response Overview | Dr. Herb Nelson, Munitions Response, Program Manager.
10:25 a.m. | 17 MR01-009 (MR-2729): Rapid Response Surveys of Mobility, Burial and Re-Exposure of Underwater Munitions in Energetic Surf-Zone Environments and Object Monitoring Technology Development (FY17 New Start) | Dr. Peter Traykovski, Woods Hole Oceanographic Institution, Woods Hole, MA.
11:10 a.m. | Break |
11:25 a.m. | 17 MR01-023 (MR-2732): Three-Dimensional Computational Modeling of Turbulent Flow Field, Bed Morphodynamics and Liquefaction Adjacent to Munitions, (FY17 New Start) | Dr. Xiaofeng Liu, Pennsylvania State University, University Park, PA.
12:10 p.m. | Lunch |
1:10 p.m. | 17 MR01-021 (MR-2731): Resolving the Role of the Dynamic Pressure in the Burial, Exposure, Scour, and Mobility of Underwater Munitions (FY17 New Start) | Dr. Diane Foster, University of New Hampshire, Durham, NH.
1:55 p.m. | Munitions Response Overview | Dr. Herb Nelson, Munitions Response, Program Manager.
2:00 p.m. | 17 MR01-027 (MR-2733): Probabilistic Environmental Forecasting System for Munitions Mobility (FY17 New Start) | Dr. Margaret Palmsten, Naval Research Laboratory, Stennis Space Center, MS.
2:45 p.m. | Break |
3:00 p.m. | Weapons Systems and Platforms Overview | Dr. Robin Nissan, Weapons Systems and Platforms, Program Manager.
3:10 p.m. | 17 WP01-003 (WP- 2738): Fluorine-Free Aqueous Film Forming Foam (FY17 New Start) | Dr. John Payne, National Foam, West Chester, PA.
3:55 p.m. | 17 WP01-005 (WP- 2739): Fluorine-Free Foams with Oleophobic Surfactants and Additives for Effective Pool Fire Suppression (FY17 New Start) | Dr. Ramagopal Ananth, U.S. Naval Research Laboratory, Washington, DC.
4:40 p.m. | Public Discussion/Adjourn for the day
Agenda for September 14, 2016
8:40 a.m. | Environmental Restoration Overview | Dr. Andrea Leeson, Environmental Restoration, Program Manager.
8:50 a.m. | 17 ER02-015 (ER-2722): Development and Optimization of Analytical Methods for Simultaneous Determination of IM and Legacy Explosive Compounds, (FY17 New Start) | Dr. Anthony Bednar, U.S. Army Engineer Research and Development Center, Vicksburg, MS.
9:35 a.m. | 17 ER03-026 (ER-2726): Application of Carbon and Nitrogen Stable Isotope Analysis to Evaluate Biotic and Abiotic Degradation of DNAN and NTO (FY17 New Start) | Dr. Neil Sturchio, University of Delaware, Newark, DE.
10:20 a.m. | Break |
10:35 a.m. | 17 ER03-034 (ER-2727): Phototransformation, Sorption, Transport, and Fate of Mixtures of NTO, DNAN, and Traditional Explosives as a Function of Climatic Conditions (FY17 New Start) | Dr. Katerina Dontsova, University of Arizona, Tucson, AZ.
11:20 a.m. | 17 ER03-013 (ER-2724): Determination of Fate and Toxicological Effects of Insensitive Munitions Compounds in Terrestrial Ecosystems (FY17 New Start) | Dr. Roman Kuperman, U.S. Army Edgewood Chemical Biological Center, Aberdeen Proving Ground, MD.
12:05 p.m. | Lunch |
1:05 p.m. | 17 ER03-010 (ER-2723): Environmental Impact of DNAN and NTO on Plants, (FY17 New Start) | Mr. Timothy Cary, U.S. Army ERDC-CRREL, Hanover, NH.
1:50 p.m. | Resource Conservation & Climate Change Overview | Dr. Herb Nelson, Resource Conservation & Climate Change, Program Manager.
2:00 p.m. | 17 RC01-063 (RC-2703): Variation in Phenological Shifts: How do Annual Cycles and Genetic Diversity Constrain or Enable Responses to Climate Change? (FY17 New Start) | Dr. Katherine O'Donnell, U.S. Geological Survey, Gainsville, FL.
2:45 p.m. | Break |
3:00 p.m. | 17 RC01-035 (RC-2701): Incorporating Photoperiodism in Insect Phenology Models with Application for Biological Control of Weeds on Department of Defense Lands, (FY17 New Start) | Dr. Fritzi Grevstad, Oregon State University, Corvallis, OR.
3:45 p.m. | Strategy Session | Dr. Herb Nelson, Acting Executive Director.
4:05 p.m. | Public Discussion/Adjourn

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/.

Time is allotted at the close of each meeting day for the public to make comments. Oral comments are limited to 5 minutes per person.

Dated: August 12, 2016.
Aaron Siegel,
Alternate OSD Federal Register Liaison Officer, Department of Defense.

[FR Doc. 2016-19610 Filed 8-16-16; 8:45 am]

BILLING CODE 5001-06-P